DEPARTMENT OF HOMELAND SECURITY

U.S. Citizenship and Immigration Services

[CIS No. 2470-09; DHS Docket No. USCIS-2009-0008]

RIN 1615-ZA83

Form I-90, Application To Replace Permanent Resident Card, Change of Filing Locations

AGENCY: U.S. Citizenship and Immigration Services, DHS.

ACTION: Notice.

SUMMARY: U.S. Citizenship and Immigration Services (USCIS) is changing the filing location for the Form I-90, Application to Replace Permanent Resident Card. Upon the effective date of this notice, you must mail all paper versions of the Form I-90, including any initial evidence or supporting documentation, to the designated Lockbox facility located in Phoenix, Arizona, instead of to the Lockbox facility in Los Angeles, California, or to any USCIS Service Center.

DATES: This notice is effective on April 28, 2009.

FOR FURTHER INFORMATION CONTACT: Kathleen Stanley, Lockbox Project Manager, U.S. Citizenship and Immigration Services, Department of Homeland Security, 20 Massachusetts Avenue, NW., 4th Floor, Washington, DC 20529-2130. Telephone Number: (202) 272-8191.

SUPPLEMENTARY INFORMATION:

What is the purpose of the Form I-90?

Form I-90, Application to Replace Permanent Resident Card, is used to apply for a renewal or replacement Form I-551, Permanent Resident Card. The Permanent Resident Card is commonly referred to as a “green card.” The specific requirements to obtain a replacement or renewal Permanent Resident Card are set forth in 8 CFR 264.5 and the procedures for filing are provided in the instructions to the Form I-90.

Why is a Permanent Resident Card necessary?

The Permanent Resident Card provides evidence that USCIS granted the bearer lawful permanent residence in the United States. Section 264(d) of the Immigration and Nationality Act (the Act) provides that “Every alien in the United States who has been registered and fingerprinted * * * shall be issued a certificate of alien registration or an alien registration receipt card in such form and manner and at such time as shall be prescribed under regulations * * *.” The Act also provides that “Every alien, eighteen years of age and over, shall at all times carry with him and have in his personal possession any certificate of alien registration or alien registration receipt card issued to him * * * Any alien who fails to comply with [these] provisions shall be guilty of a misdemeanor * * *.” See section 264(e) of the Act, 8 U.S.C. 1304(E). You can find the specific requirements and procedures for applying to renew or replace a Permanent Resident Card at 8 CFR 264.5.

Explanation of Changes

Which applicants for replacement or renewal of Permanent Resident Cards are affected by this notice?

This notice affects any lawfully admitted permanent resident filing a paper Form I-90 to apply for renewal or replacement of his or her Permanent Resident Card. Instructions for filing a Form I-90 electronically remain unchanged. For information on electronically filing your Form I-90 please visit our Web site at http://www.uscis.gov.

Where must I file Form I-90?

You must mail your paper Form I-90, Application to Replace Permanent Resident Card, including any initial evidence and supporting documentation, to the designated lockbox facility in Phoenix, Arizona.

The Phoenix Lockbox address is: USCIS, P.O. Box 21262, Phoenix, AZ 85036.

For U.S. Postal Service (USPS) Express Mail/courier deliveries, use the following address: USCIS, ATTN: I-90, 1820 Skyharbor, Circle S Floor 1, Phoenix, AZ 85034.

What happens if I mail a Form I-90 to the wrong location?

USCIS will forward your Form I-90 to the Phoenix Lockbox facility for the first 30 calendar days after this notice is published. Forwarded applications will be considered properly filed when received at the Phoenix Lockbox facility. After the 30 calendar-day transition period, a Form I-90 mailed to a location other than the Phoenix Lockbox facility will be handled as follows:

• If you use the USPS to mail a Form I-90 to the previous USCIS California Lockbox address after the 30-day transition period, the USPS will forward it to the Phoenix Lockbox. This forwarding period will last approximately 90 calendar days.

• If you use a courier service to deliver a Form I-90 to the previous USCIS California Lockbox address after the 30-day transition period, it will be returned to you by the respective courier service. Courier services will not forward a package to another address.

• If you mail a Form I-90 application to a USCIS Service Center after the 30-day transition period, it will be returned to you with a note explaining that you must send the application to the correct address. The note will include the correct mailing address.

You should make every effort to mail your application to the correct address.

Where will I find the new Form I-90 instructions containing the Phoenix Lockbox Facility address?

You can find the revised form instructions at http://www.uscis.gov on April 28, 2009.

Does this Notice make any changes relating to my eligibility for renewing or replacing a Permanent Resident Card?

No. This notice only changes the filing location of Form I-90 and requires you to submit all initial evidence and supporting documentation with your application. This will eliminate bringing supporting documentation with you to your Application Support Center (ASC) appointment.

Am I still required to appear at my local ASC if I am renewing or replacing my card?

Yes. You will receive an ASC Appointment Notice with the date and time to appear for biometrics processing.

What do I need to bring to the ASC biometrics appointment?

You must bring the following items to your biometrics appointment:

• Biometrics appointment notice,

• Photo identification (e.g., a passport, driver's license, military ID, or other identity document containing your name, date of birth, photograph, and signature), and

• Your current Permanent Resident Card.

Paperwork Reduction Act

This notice does not impose any new reporting or recordkeeping requirements. The Office of Management and Budget (OMB) previously approved the use of this information collection. The OMB control number for Form I-90 is contained in 8 CFR 299.5, Display of control numbers. USCIS provided OMB with a copy of the amended form and an OMB 83C (Correction Worksheet) through the automated Regulatory Information Service Center (RISC) and Office of Information and Regulatory Affairs (OIRA) Combined Information System (ROCIS). OMB approved the changes.

Dated: April 21, 2009.
Michael Aytes,
Acting Deputy Director.

[FR Doc. E9-9620 Filed 4-27-09; 8:45 am]

BILLING CODE 9111-97-P